NUCLEAR REGULATORY COMMISSION

[NRC-2009-0313]

License Renewal Interim Staff Guidance LR-ISG-2006-02: Staff Guidance Regarding the Acceptance Reviews for Environmental Requirements for License Renewal Applications; Notice of Withdrawal

AGENCY: U.S. Nuclear Regulatory Commission (NRC).

ACTION: Notice of withdrawal.

SUMMARY: The NRC is withdrawing its proposed License Renewal Interim Staff Guidance (LR-ISG), LR-ISG-2006-02, “Staff Guidance on Acceptance Review for Environmental Reports for License Renewal Applications,” which was noticed in the Federal Register (72 FR 7694 on February 16, 2007). This proposed LR-ISG was intended to aid NRC staff in conducting environmental acceptance reviews, and identify information to include in environmental reports (ERs). The proposed LR-ISG also provided an acceptance review checklist.

The staff informed NEI and other stakeholders of the opportunity to comment on the proposed LR-ISG-2006-02 by letter dated February 8, 2007 (ADAMS Accession No. ML063190440). The staff noted that the guidance in this proposed LR-ISG would be incorporated into a future update of Environmental Standard Review Plan (ESRP), NUREG-1555, “Standard Review Plans for Environmental Reviews for Nuclear Power Plants.” NEI provided comments on the proposed LR-ISG in a letter dated April 16, 2007 (ADAMS Accession No. ML071090137). No other stakeholders provided comments.

The NRC is currently preparing a proposed rule to amend its regulations in Part 51 of Title 10 of the Code of Federal Regulations regarding findings on environmental impacts related to license renewal. Specifically, the proposed rule will reestablish the scope of the environmental impact issues which must be addressed in conjunction with the review of applications for license renewal. As part of this rulemaking, the NRC staff will issue for comments a revised Generic Environmental Impact Statement (GEIS) for License Renewal of Nuclear Plants. Concurrent with this update, the staff will also publish a revised Regulatory Guide 4.2, Preparation of Environmental Reports for License Renewal Applications, and a revised Environmental Standard Review Plan, Standard Review Plans for Environmental Reviews for Nuclear Power Plants. Consequently, the staff has determined that ongoing efforts to update the aforementioned documents will obviate the need for LR-ISG-2006-02. Comments received to date on LR-ISG-2006-02 will be appropriately considered as part of such efforts to update existing guidance.

ADDRESSES: Documents created or received after November 1, 1999, are available electronically at the NRC's Public Electronic Reading Room on the Internet at http://www.nrc.gov/reading-rm/adams.html. From this site, the public can gain entry into the NRC's Agencywide Documents Access and Management System (ADAMS). If you do not have access to the Internet or if there are any problems in accessing the documents located in ADAMS, contact the NRC Public Document Room reference staff at 1-800-397-4209, 301-415-4737, or by e-mail at PDR.Resource@nrc.gov.

FOR FURTHER INFORMATION CONTACT: Mr. Ian Spivack, Division of License Renewal, Office of Nuclear Reactor Regulation, U.S. Nuclear Regulatory Commission, Washington, DC 20555-0001; telephone 301-415-2564; or e-mail Ian.Spivack@nrc.gov.

SUPPLEMENTARY INFORMATION: The NRC issues LR-ISGs to communicate insights and lessons learned, and to address emergent issues not addressed in certain license renewal guidance documents. The NRC staff and stakeholders can use approved LR-ISGs until their guidance is incorporated into a formal license renewal guidance document revision. The NRC posts ISGs on the NRC public Web page at http://www.nrc.gov/reading-rm/doc-collections/isg.

For the reasons stated above, the NRC has determined that LR-ISG-2006-02 is not needed. The staff considers this LR-ISG withdrawn and closed.

Dated at Rockville, Maryland, this 8th day of July 2009.
For the Nuclear Regulatory Commission.
Samson S. Lee,
Deputy Director, Division of License Renewal, Office of Nuclear Reactor Regulation.

[FR Doc. E9-16920 Filed 7-15-09; 8:45 am]

BILLING CODE 7590-01-P